INTERNATIONAL TRADE COMMISSION

[Investigation No. 337-TA-440]

In the Matter of Certain 4-Androstenediol; Termination of Investigation; Issuance of Limited Exclusion Order

AGENCY: U.S. International Trade Commission.

ACTION: Notice.

SUMMARY: Notice is hereby given that the U.S. International Trade Commission has terminated the above-captioned investigation and issued a limited exclusion order.

FOR FURTHER INFORMATION CONTACT: Jean Jackson, Esq., Office of the General Counsel, U.S. International Trade Commission, 500 E Street, SW., Washington, DC 20436, telephone 202-205-3104. Copies of the limited exclusion order and all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS-ON-LINE) at http://dockets.usitc.gov/eol.public. Hearing-impaired persons are advised that information on the matter can be obtained by contacting the Commission's TDD terminal on 202-205-1810.

SUPPLEMENTARY INFORMATION: The Commission instituted this investigation, which concerns allegations of unfair acts in violation of section 337 of the Tariff Act of 1930, 19 CFR part 1337, in the importation and sale of certain 4-androstenediol (a nutritional supplement used by body-builders) on December 19, 2000. 65 FR 79424. On April 19, 2001, complainant LPJ, Inc. of Seymour, Illinois (LPJ) moved pursuant to 19 U.S.C. 1337(a)(1) and 19 CFR 210.16 for an order directing the only respondent, Changzhou Huabang Pharmaceutical Group, Ltd. (Changzhou), to show cause why it should not be found in default for failure to respond to LPJ's complaint. The Commission investigative attorney (IA) supported LPJ's motion. The presiding administrative law judge (ALJ)(Judge Luckern) issued Order No. 8 on April 30, 2001, directing Changzhou to show cause why it should not be found in default. Changzhou did not respond to that order.

On May 24, 2001, the ALJ issued an ID finding Changzhou in default pursuant to 19 CFR 210.16, and ruling that Changzhou had waived its rights to appear, to be served with documents, and to contest the allegations at issue in the investigation. No petitions for review of the ID were filed. The Commission decided not to review the ID on June 8, 2001, thereby allowing it to become the Commission's final determination under 19 CFR 210.42. 66 FR 32374 (June 14, 2001). On June 25, 2001, pursuant to 19 U.S.C. 1337(g)(1) and 19 CFR 210.16(c)(1), complainant LPJ filed a declaration seeking limited relief against the defaulting respondent. In its declaration, LPJ requested that the Commission issue a limited exclusion order against Changzhou.

The Commission solicited comments from the parties, interested government agencies, and other persons concerning the issues of remedy, the public interest, and bonding. 66 FR 95809 (July 9, 2001). Complainant and the IA filed proposed remedial orders and addressed the issues of remedy, the public interest, and bonding. No comments were filed by government agencies or other interested persons.

Section 337(g)(1) of the Tariff Act of 1930 provides that the Commission shall presume the facts alleged in a complaint to be true, and upon request issue a limited exclusion order and/or cease and desist order if: (1) A complaint is filed against a person under section 337, (2) the complaint and a notice of investigation are served on the person, (3) the person fails to respond to the complaint and notice or otherwise fails to appear to answer the complaint and notice, (4) the person fails to show good cause why it should not be found in default, and (5) the complainant seeks relief limited to that person. Such an order shall be issued unless, after considering the effect of such exclusion, the Commission finds that such exclusion should not be issued.

The Commission found that each of the statutory requirements for the issuance of a limited exclusion order was met with respect to defaulting respondent Changzhou. The Commission further determined that the public interest factors enumerated in section 337(g)(1) did not preclude the issuance of such relief. Finally, the Commission determined that bond under the limited exclusion order during the Presidential review period shall be in the amount of twenty-nine (29) percent of the entered value of the imported articles.

This action is taken under the authority of section 337 of the Tariff Act of 1930, 19 U.S.C. 1337, and section 210.16 (c) of the Commission's Rules of Practice and Procedure, 19 CFR 210.16.

Issued: August 2, 2001.
By order of the Commission.
Donna R. Koehnke,
Secretary.

[FR Doc. 01-19834 Filed 8-7-01; 8:45 am]

BILLING CODE 7020-02-P